DEPARTMENT OF COMMERCE

National Oceanic and Atomospheric Administration

50 CFR Part 660

[Docket No. 000622191-2104-02; I.D. 041700D]

RIN 0648-AO35

Fisheries Off West Coast States and in the Western Pacific; Western Pacific Pelagic Fisheries; Measures to Reduce the Incidental Catch of Seabirds in the Hawaii Pelagic Longline Fishery; Correction

AGENCY: National Marine Fisheries Service (NMFS), National Oceanic and Atmospheric Administration (NOAA), Commerce.

ACTION: Correction to announcement of effectiveness of a collection-of-information requirement.

SUMMARY: This document contains a correction to a document that announced the effective date of a collection-of-information requirement that was published on September 10, 2002.

DATES: Effective October 10, 2002.

FOR FURTHER INFORMATION CONTACT: Alvin Z. Katekaru, Pacific Islands Area Office, NMFS, 808-973-2937.

SUPPLEMENTARY INFORMATION:

Background

The document announcing the effectiveness of a collection-of-information requirement for participants in the Hawaii-based longline limited access fishery, whereby in the event an endangered short-tailed albatross is accidentally hooked or entangled during fishing operations, NMFS or the U.S. Coast Guard or U.S. Fish and Wildlife Service must be notified immediately, was published in the Federal Register on September 10, 2002 (67 FR 57346). The document contained an incorrect effective date.

Correction

In the rule FR Doc. 02-22924, in the issue of Tuesday, September 10, 2002 (67 FR 57346), on page 57346, at the end of the last paragraph in the third column, change “September 30, 2002” to “October 10, 2002”.

Dated: September 27, 2002.
Rebecca Lent,
Deputy Assistant Administrator for Regulatory Programs, National Marine Fisheries Service.

[FR Doc. 02-25172 Filed 10-2-02; 8:45 am]

BILLING CODE 3510-22-S